SECURITIES AND EXCHANGE COMMISSION

Submission for OMB Review; Comment Request

Upon Written Request Copies Available From:Securities and Exchange Commission, Office of FOIA Services, 100 F Street NE., Washington, DC 20549-2736.

Extension:

Form SD, SEC File No. 270-647, OMB Control No. 3235-0697.

Notice is hereby given that, pursuant to the Paperwork Reduction Act of 1995 (44 U.S.C. 3501 et seq.), the Securities and Exchange Commission (“Commission”) has submitted to the Office of Management and Budget this request for extension of the previously approved collection of information discussed below.

Form SD (17 CFR 249b-400) under Securities Exchange Act of 1934 (15 U.S.C. 78a et seq.) (“Exchange Act”) pursuant to Section 13(p)(15 U.S.C. 78m(p)) of the Exchange Act is filed by issuers to provide disclosures regarding the source and chain of custody of certain minerals used in their products. The information provided is mandatory and all information is made available to the public upon request. We estimate that Form SD takes approximately 480.61 hours per response to prepare and is filed by approximately 864 issuers. We estimate that 75% of the 480.61 hours per response (360.46 hours) is prepared by the issuer internally for a total annual burden of 311,437 hours (360.46 hours per response × 864 responses).

An agency may not conduct or sponsor, and a person is not required to respond to, a collection of information unless it displays a currently valid control number.

The public may view the background documentation for this information collection at the following Web site, www.reginfo.gov. Comments should be directed to: (i) Desk Officer for the Securities and Exchange Commission, Office of Information and Regulatory Affairs, Office of Management and Budget, Room 10102, New Executive Office Building, Washington, DC 20503, or by sending an email to: Shagufta_Ahmed@omb.eop.gov; and (ii) Pamela Dyson, Director/Chief Information Officer, Securities and Exchange Commission, c/o Remi Pavlik-Simon, 100 F Street NE., Washington, DC 20549 or send an email to: PRA_Mailbox@sec.gov. Comments must be submitted to OMB within 30 days of this notice.

Dated: April 27, 2016.
Robert W. Errett,
Deputy Secretary.

[FR Doc. 2016-10267 Filed 5-2-16; 8:45 am]

BILLING CODE 8011-01-P